DEPARTMENT OF HEALTH AND HUMAN SERVICES

Administration for Children and Families

Submission for OMB Review; Comment Request

Proposed Project

Title: Head Start Family and Child Experiences Survey (FACES 2009).

OMB No.: 0970-0151.

Description: The Administration for Children and Families (ACF), U.S. Department of Health and Human Services, is planning to collect data on a new cohort for the Head Start Family and Child Experiences Survey (FACES). FACES is a longitudinal study of a nationally representative sample of Head Start programs and children that will collect information for Head Start performance measures. Data for FACES will be collected annually through interviews with Head Start parents, teachers, program directors and other Head Start staff, as well as direct child assessments and observations of Head Start classrooms.

Data will be collected on a sample of approximately 3,400 children and families from 60 Head Start programs. Data collection will include assessments of Head Start children, interviews with their parents, and ratings by their Head Start teachers. Site visitors will interview Head Start teachers in approximately 405 classrooms and make observations of the types and quality of classroom activities. Interviews will also be conducted with Head Start program directors and other staff. A follow-up for children in Kindergarten will include child assessments, parent interviews, and teacher questionnaires and child ratings.

The purpose of this data collection is to fulfill the requirements of the Government Performance and Results Act (GPRA) of 1993 (Pub. L. 103-62), and by the 1994 reauthorization of the Head Start program (Head Start Act, as amended, May 18, 1994, Section 649 (d)), which call for periodic assessments of Head Start's quality and effectiveness.

Respondents: Parents of Head Start Children, Head Start Children, Head Start Teachers, Head Start Program Directors and Staff, and Kindergarten Teachers of former Head Start enrollees.

Annual Burden Estimates
| Annual number of respondents | Number of responses per respondent | Average burden hour per response | Estimated annual burden hours
Parent Interview | 3,185 | 1.0 | .81 | 2,564
Child Assessment | 3,245 | 1.0 | 0.75 | 2,434
Head Start Teacher Interview | 405 | 1.0 | 0.50 | 203
Head Start Teacher Child Rating | 405 | 9.0 | 0.17 | 620
Program Director Interview | 20 | 1.0 | 0.50 | 10
Center Director Interview | 40 | 1.0 | 0.50 | 20
Education Coordinator Interview | 20 | 1.0 | 0.50 | 10
Kindergarten Teacher Questionnaire | 1,128 | 1.3 | 0.50 | 733
Kindergarten Teacher Child Rating | 1,128 | 1.3 | 0.17 | 249
Total Annual Burden Hours: |  |  |  | 6,843

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.qov.

OMB Comment: OMB is required to make a decision concerning the collection of information between 30 and 60 days after publication of this document in the Federal Register. Therefore, a comment is best assured of having its full effect if 0MB receives it within 30 days of publication. Written comments and recommendations for the proposed information collection should be sent directly to the following: Office of Management and Budget, Paperwork Reduction Project, Fax: 202-395-6974, Attn: Desk Officer for the Administration for Children and Families.

Dated: March 9, 2009.
Brendan C. Kelly,
OPRE Reports Clearance Officer.

[FR Doc. E9-5511 Filed 3-13-09; 8:45 am]

BILLING CODE 4184-01-M